DEPARTMENT OF DEFENSE

Office of the Secretary

[Docket ID: DoD-2023-HA-0102]

Submission for OMB Review; Comment Request

AGENCY: Office of the Assistant Secretary of Defense for Health Affairs (OASD(HA)), Department of Defense (DoD).

ACTION: 30-Day information collection notice.

SUMMARY: The DoD has submitted to OMB for clearance the following proposal for collection of information under the provisions of the Paperwork Reduction Act.

DATES: Consideration will be given to all comments received by April 10, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Travis Air Force Base Exceptional Family Member Program (EFMP) Pilot Program Evaluation Survey; OMB Control Number 0720-EFMP.

Type of Request: New.

Number of Respondents: 240.

Responses per Respondent: 1.

Annual Responses: 240.

Average Burden per Response: 11 minutes.

Annual Burden Hours: 44.

Needs and Uses: The 60th Medical Group (60 MDG) at David Grant Medical Center on Travis Air Force Base is taking part in a pilot program for Exceptional Family Member Program (EFMP) family members. The goal of this pilot program is to connect EFMP families with quality medical and non-medical resources to support and care for their family members. In this pilot program, EFMP family members at David Grant are being provided with “Care Maps” that identify resources tailored to their diagnoses. 60 MDG intends to conduct a web-based survey to solicit feedback on the efficacy and usefulness of these resources, as well as feedback from EFMP families at David Grant that have not received specialized maps to understand their experience in obtaining EFMP care without said resources. Survey results will be used as part of a larger evaluation of this pilot program, which was requested by the Director of Defense Health Affairs. Moreover, in pursuant of DoD Instruction 1315.19, “Exceptional Family Member Program,” there shall be monitoring and evaluation of the EFMP including “establishing and implementing a mechanism to obtain the level of satisfaction of military families with special needs enrolled in the EFMP with the support provided.”

Affected Public: Individuals or households.

Frequency: On occasion.

Respondent's Obligation: Voluntary.

OMB Desk Officer: Mr. Matt Eliseo.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 28, 2024.
Aaron T. Siegel,
Alternate OSD Federal Register Liaison Officer, Department of Defense.

[FR Doc. 2024-05063 Filed 3-8-24; 8:45 am]

BILLING CODE 6001-FR-P